SECURITIES AND EXCHANGE COMMISSION

[Release No. 34-68455; File No. SR-CHX-2012-14]

Self-Regulatory Organizations; Chicago Stock Exchange, Inc.; Notice of Filing and Immediate Effectiveness of a Proposed Rule Change Relating to Telemarketing Rules

December 18, 2012.

Correction

In notice document 2012-30886 appearing on pages 76141-76145 in the issue of December 26, 2012, make the following correction:

On page 76145, in the third column, in the 12th line, “January 14, 2013” should read “January 16, 2013”.

[FR Doc. C1-2012-30886 Filed 1-7-13; 8:45 am]

BILLING CODE 1505-01-D